DEPARTMENT OF TRANSPORTATION

Federal Aviation Administration

14 CFR Part 71

[Docket No. FAA-2023-2315; Airspace Docket No. 22-AEA-26]

RIN 2120-AA66

Establishment, Amendment, and Revocation of Multiple Air Traffic Service (ATS) Routes; Eastern United States

AGENCY: Federal Aviation Administration (FAA), DOT.

ACTION: Final rule.

SUMMARY: This action establishes United States Area Navigation (RNAV) Routes Q-221 and Q-227; amends Very High Frequency Omnidirectional Range (VOR) Federal Airways V-35, V-147, and V-270 and RNAV Routes T-440 and T-445; and revokes VOR Federal Airway V-36 and Jet Routes J-132, J-223, and J-227 in the eastern United States. The FAA is taking this action due to the planned decommissioning of the Elmira, NY (ULW), VOR/Distance Measuring Equipment (VOR/DME). This action is in support of the FAA's VOR Minimum Operational Network (MON) Program.

DATES: Effective date 0901 UTC, September 5, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a NPRM for Docket No. FAA 2023-2315 in the Federal Register (89 FR 2522; January 16, 2024), proposing to amend three VOR Federal airways and two RNAV routes; and to revoke one VOR Federal airway and three Jet routes in the eastern United States. Interested parties were invited to participate in this rulemaking effort by submitting written comments on the proposal to the FAA. No comments were received.

In a previous NPRM, Docket No. FAA-2023-1835 in the Federal Register (88 FR 68516; October 4, 2023), the FAA proposed to establish RNAV Routes Q-221 and Q-227. Interested parties were invited to participate in this rulemaking effort by submitting written comments on the proposal to the FAA. No comments were received.

Differences From the NPRM

The NPRM published for Docket No. FAA 2023-2315 in the Federal Register (89 FR 2522; January 16, 2024) contained a typographical error in the summary section. The summary section stated that the NPRM was proposing to revoke two VOR Federal airways. This should have stated that it was proposing to revoke one VOR Federal Airway. This final rule corrects this error.

In a previous NPRM, Docket No. FAA-2023-1835 in the Federal Register (88 FR 68516; October 4, 2023), the FAA proposed to establish RNAV Routes Q-221 and Q-227. No comments were received. The FAA decided to establish RNAV Route Q-221 and Q-227 in this docket as they mitigate the loss of navigation capability due to the removal of Jet Route J-227 that is revoked in this action.

Incorporation by Reference

Jet Routes are published in paragraph 2004, United States Area Navigation Routes (Q-routes) are published in paragraph 2006, Domestic VOR Federal Airways are published in paragraph 6010(a), and United States Area Navigation Routes (T-routes) are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by establishing RNAV Routes Q-221 and Q-227; amending VOR Federal Airways V-35, V-147, and V-270 and RNAV Routes T-440 and T-445; and revokes VOR Federal Airway V-36 and Jet Routes J-132, J-223, and J-227 in the eastern United States. This action is due to the decommissioning of the Elmira, NY (ULW), VOR/DME. The ATS route changes are described below.

J-132: Prior to this final rule, J-132 extended between the Elmira, NY (ULW), VOR/DME and the Huguenot, NY (HUO), VOR/DME. The FAA removes the route in its entirety.

J-223: Prior to this final rule, J-223 extended between the La Guardia, NY (LGA), VOR/DME and the intersection of the La Guardia VOR/DME 310° and Elmira, NY (ULW), VOR/DME 110° radials (CORDS Fix). The FAA removes the route in its entirety.

J-227: Prior to this final rule, J-227 extended between the Armel, VA (AML), VOR/DME and the Elmira, NY (ULW), VOR/DME. The FAA removes the route in its entirety.

Q-221: Q-221 is a new route that extends between the Armel, VA (AML), VOR/DME and the DLMAR, PA, waypoint (WP). Q-221 overlays Jet Route J-220 between the Armel VOR/DME and the DLMAR WP which is co-located with the Stonyfork, PA (SFK), VOR/DME.

Q-227: Q-227 is a new route that extends between the Armel, VA (AML), VOR/DME and the STUBN, NY, WP. Q-227 overlays Jet Route J-227 between the Armel VOR/DME and the STUBN WP which is co-located with the Elmira, NY (ULW), VOR/DME.

V-35: Prior to this final rule, V-35 extended between the Dolphin, FL (DHP), VOR/Tactical Air Navigation (VORTAC) and the Pecan, GA (PZD), VOR/DME; between the intersection of the Dublin, GA (DBN), VORTAC 309° and the Athens, GA (AHN), VOR/DME 195° radials (SINCA Fix) and the Morgantown, WV (MGW), VOR/DME; and between the Philipsburg, PA (PSB), VORTAC and the Syracuse, NY (SYR), VORTAC. The FAA removes the airway segments between the Stonyfork, PA (SFK), VOR/DME and the Syracuse VORTAC. As amended, the route extends between the Dolphin VORTAC and the Pecan VOR/DME; between the SINCA Fix and the Morgantown VOR/DME; and between the Philipsburg VORTAC and the Stonyfork VOR/DME.

V-36: Prior to this final rule, V-36 extended between the Elmira, NY (ULW), VOR/DME and the intersection of the La Guardia, NY (LGA), VOR/DME 310° and the Stillwater, NJ (STW), VOR/DME 043° radials. The FAA removes the route in its entirety.

V-147: Prior to this final rule, V-147 extended between the Yardley, PA (ARD), VOR/DME and the Rochester, NY (ROC), VOR/DME. The FAA removes the airway segments between the Wilkes-Barre, PA (LVZ), VORTAC and the Geneseo, NY (GEE), VOR/DME. As amended, the route extends between the Yardley VOR/DME and the Wilkes-Barre VORTAC, and between the Geneseo VOR/DME and the Rochester VOR/DME.

V-270: Prior to this final rule, V-270 extended between the Elmira, NY (ULW), VOR/DME and the Boston, MA (BOS), VOR/DME. The FAA removes the airway segment between the Elmira VOR/DME and the Binghamton, NY (CFB), VOR/DME. Additionally, the FAA removes the Delancey, NY (DNY), VOR/DME from the route and replaces it with the intersection of the Binghamton VOR/DME 088° and the Sparta, NJ (SAX), VORTAC 344° radials (DANZI Fix). Replacement of the Delancey VOR/DME with the DANZI Fix provides continued connection to other ATS routes in the route structure. As amended, the route extends between the Binghamton VOR/DME and the Boston VOR/DME.

T-440: Prior to this final rule, T-440 extended between the Elmira, NY (ULW), VOR/DME and the TALLI, PA, Fix. The FAA removes the Elmira VOR/DME and replaces it with the STUBN, NY, WP which is located 60 feet southeast of the Elmira VOR/DME. The amended RNAV route mitigates the removal of airway segments of V-147 and provides RNAV route structure continuity. As amended, the route extends between the STUBN WP and the TALLI Fix.

T-445: Prior to this final rule, T-445 extended between the Harrisburg, PA (HAR), VORTAC and the AIRCO, NY, Fix. The FAA removes the Elmira, NY (ULW), VOR/DME and replaces it with the STUBN, NY, WP which is located 60 feet southeast of the Elmira VOR/DME. As amended, the route continues to extend between the Harrisburg VORTAC and the AIRCO Fix.

The navigational aid radials listed in the VOR Federal airway description regulatory text of this final rule are stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing RNAV Routes Q-221 and Q-227; amending VOR Federal Airways V-35, V-147, and V-270 and RNAV Routes T-440 and T-445; and revoking VOR Federal Airway V-36 and Jet Routes J-132, J-223, and J-227 in the eastern United States, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-132 [Removed]

* * * * *

J-223 [Removed]

* * * * *

J-227 [Removed]

* * * * *

Paragraph 2006 United States Area Navigation Routes.

* * * * *

Q-221 Armel, VA (AML) to DLMAR, PA [New]
Armel, VA (AML) | VOR/DME | (Lat. 38°56′04.53″ N, long. 077°28′00.13″ W)
DLMAR, PA | WP | (Lat. 41°41′42.56″ N, long. 077°25′11.02″ W)
* * * * *
Q-227 Armel, VA (AML) to STUBN, NY [New]
Armel, VA (AML) | VOR/DME | (Lat. 38°56′04.53″ N, long. 077°28′00.13″ W)
OGESY, PA | WP | (Lat. 40°44′13.65″ N, long. 077°26′11.63″ W)
STUBN, NY | WP | (Lat. 42°05′38.58″ N, long. 077°01′28.68″ W)

* * * * *

Paragraph 6010(a) Domestic VOR Federal Airways.

* * * * *

V-35 [Amended]

From Dolphin, FL; INT Dolphin 266° and Cypress, FL, 110° radials; INT Cypress 110° and Lee County, FL, 138° radials; Lee County; INT Lee County 326° and St. Petersburg, FL, 152° radials; St. Petersburg; INT St. Petersburg 350° and Cross City, FL, 168° radials; Cross City; Greenville, FL; to Pecan, GA. From INT Dublin, GA, 309° and Athens, GA, 195° radials; Athens; Electric City, SC; Sugarloaf Mountain, NC; Holston Mountain, TN; Glade Spring, VA; Charleston, WV; INT Charleston 051° and Elkins, WV, 264° radials; Clarksburg, WV; to Morgantown, WV. From Philipsburg, PA; to Stonyfork, PA.

V-36 [Removed]

* * * * *

V-147 [Amended]

From Yardley, PA; INT Yardley 294° and East Texas, PA, 124° radials; East Texas; to Wilkes-Barre, PA. From Geneseo, NY; to Rochester, NY.

* * * * *

V-270 [Amended]

From Binghamton, NY; INT Binghamton 088° and Sparta, NJ, 344° radials; Chester, MA; INT Chester 091° and Boston, MA, 262° radials; to Boston.

* * * * *

Paragraph 6011 United States Area Navigation Routes.

* * * * *

T-440 STUBN, NY to TALLI, PA [Amended]
STUBN, NY | WP | (Lat. 42°05′38.58″ N, long. 077°01′28.68″ W)
WLKES, PA | WP | (Lat. 41°16′22.57″ N, long. 075°41′21.60″ W)
TALLI, PA | FIX | (Lat. 41°19′01.60″ N, long. 075°06′43.17″ W)
* * * * *
T-445 Harrisburg, PA (HAR) to AIRCO, NY [Amended]
Harrisburg, PA (HAR) | VORTAC | (Lat. 40°18′08.06″ N, long. 077°04′10.41″ W)
Selinsgrove, PA (SEG) | VOR/DME | (Lat. 40°47′27.09″ N, long. 076°53′02.55″ W)
LYKOM, PA | WP | (Lat. 41°20′18.75″ N, long. 076°46′30.30″ W)
STUBN, NY | WP | (Lat. 42°05′38.58″ N, long. 077°01′28.68″ W)
BEEPS, NY | FIX | (Lat. 42°49′13.26″ N, long. 076°59′04.84″ W)
Rochester, NY (ROC) | VOR/DME | (Lat. 43°07′04.65″ N, long. 077°40′22.06″ W)
AIRCO, NY | FIX | (Lat. 43°12′36.66″ N, long. 078°28′57.00″ W)

* * * * *

Issued in Washington, DC, on June 26, 2024.
Frank Lias,
Manager, Rules and Regulations Group.

[FR Doc. 2024-14486 Filed 7-3-24; 8:45 am]

BILLING CODE 4910-13-P